DEPARTMENT OF THE INTERIOR

Bureau of Land Management

[MT-060-01-1020-PG]

Notice of Public Meeting; Central Montana Resource Advisory Council

AGENCY: Bureau of Land Management, Interior.

ACTION: Notice of Public Meeting.

SUMMARY: In accordance with the Federal Land Policy and Management Act and the Federal Advisory Committee Act of 1972, the U.S. Department of the Interior, Bureau of Land Management (BLM) Central Montana Resource Advisory Council (RAC) will meet as indicated below.

DATES: The meeting will be held February 5 & 6, 2008, at the Yogo Inn Conference Room, 211 E. Main Street, in Lewistown, Montana.

The February 5 session will begin at 10 a.m. with a 30-minute public comment period. This meeting is scheduled to adjourn at 5:30 p.m.

The February 6 meeting will begin at 8 a.m. with a 30-minute public comment period and is scheduled to adjourn at 3:30 p.m.

SUPPLEMENTARY INFORMATION: This 15-member council advises the Secretary of the Interior on a variety of management issues associated with public land management in Montana. During these meetings the council will discuss/act upon:

Reviewing the council charter;

Discussing the consensus format;

An orientation for current and new members;

Reviewing the 2008 council work plan;

A discussion of what the council expects from the BLM;

A question and answer period with BLM managers and staff;

Field manager updates;

Travel planning in the Judith and Moccasin Mountains;

A fee proposal template from the U.S. Forest Service;

Oil and gas leasing;

An update on the monument resource management plan;

Watershed planning; and

Administrative details (next meeting agenda, location, etc.).

All RAC meetings are open to the public. The public may present written comments to the RAC. Each formal RAC meeting will also have time allocated for hearing public comments. Depending on the number of persons wishing to comment and time available, the time for individual oral comments may be limited.

FOR FURTHER INFORMATON CONTACT: Gary E. Slagel, Associate Lewistown Field Manager, Lewistown Field Office, P.O. Box 1160, Lewistown, Montana 59457, 406/538-1900.

Dated: January 8, 2008.
Gary E. Slagel,
Associate Lewistown Field Manager.

[FR Doc. E8-481 Filed 1-14-08; 8:45 am]

BILLING CODE 4310-$$-P